DEPARTMENT OF AGRICULTURE

Farm Service Agency

Notice of Availability of the Draft Programmatic Environmental Assessment for the 2005 Hurricane Tree Assistance Program

AGENCY: Farm Service Agency, USDA.

ACTION: Notice.

SUMMARY: This notice announces the availability of the Draft Programmatic Environmental Assessment (PEA) for the implementation of the 2005 Hurricane Tree Assistance Program (TAP), authorized by the Emergency Agricultural Disaster Assistance Act. The draft PEA assesses the potential environmental impacts of alternatives to be considered in the administration of this hurricane program. The draft PEA also provides a means for the public to voice any concerns they may have about the program, and any ideas for improving it. This Notice of Availability informs the public of the availability of the applicable draft PEA and solicits public comment.

DATES: FSA invites comments on the draft PEA. Comments should be submitted by close of business on April 30, 2007, to ensure consideration. Comments submitted after this date will be considered to the extent possible.

ADDRESSES: Comments on and requests for copies of the draft PEA should be submitted to Matthew T. Ponish, National Environmental Compliance Manager, United States Department of Agriculture, Farm Service Agency, 1400 Independence Ave., SW., Mail Stop 0513, Washington DC 20250-0513, or by e-mail at Matthew.Ponish@wdc.usda.gov. The Draft PEA can be reviewed online at http://www.fsa.usda.gov/FSA/webapp?area=home&subject=ecrc&topic=nep-cd.

FOR FURTHER INFORMATION CONTACT: Matthew Ponish, USDA/FSA/CEPD/Stop 0513, 1400 Independence Ave., SW., Washington, DC 20250-0513, (202) 720-6853, or e-mail at: Matthew.Ponish@wdc.usda.gov. Persons with disabilities who require alternative means for communication (Braille, large print, audio tape, etc.) should contact the USDA Target Center at (202) 720-2600 (voice and TDD).

SUPPLEMENTARY INFORMATION: The Farm Service Agency announces the availability of the draft Programmatic Environmental Assessment (PEA) for the 2005 Hurricane TAP, authorized by the Emergency Agricultural Disaster Assistance Act (Pub. L. 109-234, section 3021), the goal of which is to reimburse eligible producers of eligible tree crops for certain costs associated with reestablishing crops lost because of the hurricanes of 2005. TAP will be implemented in counties declared disasters as a result of the 2005 hurricanes in the following states: Arkansas, Alabama, Florida, Louisiana, North Carolina, Mississippi, South Carolina, Tennessee, and Texas. In consideration of the analysis documented in the PEA, the program would not constitute a major State or Federal action that would significantly affect the human environment. Therefore, an Environmental Impact Statement will not be prepared.

The regulations promulgating the 2005 Hurricane TAP were published in the Federal Register on February 12, 2007 (72 FR 6435), along with the provision that no benefit shall be paid under the program until FSA has completed the PEA and issued a decision document. The draft PEA assesses the potential environmental impacts of alternatives to be considered in the administration of the 2005 TAP. The draft PEA also provides a means for the public to voice any concerns they may have about the program and any ideas for improving it. This Notice of Availability informs the public of the availability of the draft PEA and solicits public comment.

Signed in Washington DC on April 4, 2007.
Thomas B. Hofeller,
Acting Administrator, Farm Service Agency.

[FR Doc. E7-6993 Filed 4-12-07; 8:45 am]

BILLING CODE 3410-05-P